DEPARTMENT OF AGRICULTURE

Farm Service Agency

Biologically Engineered Low-Nicotine Tobaccos

AGENCIES: Farm Service Agency.

ACTION: Notice.

SUMMARY: In a notice published in the Federal Register on May 15, 2002, the Farm Service Agency (FSA) invited comments from the public about whether the biologically-engineered, low-nicotine Burley Tobacco type 31-V and related tobaccos should be considered quota or non-quota tobacco. The preponderance of public comments supported these tobaccos being considered non-quota for the 2003 and subsequent crop years. This notice announces that there will be no change to the FSA regulations to include these tobaccos among those which are subject to marketing quota regulations.

FOR FURTHER INFORMATION CONTACT: Director, Tobacco Division, FSA, USDA, 1400 Independence Avenue, SW., Room 5750, STOP 0514, Washington, DC 20250-0514, by phone at (202)720-2715, or email at tob_comments@wdc.fsa.gov.

SUPPLEMENTARY INFORMATION: Recently, tobacco that was biologically-engineered to have a low nicotine content became available to producers. The regulations of the Agricultural Marketing Service (AMS), which classifies tobacco for inspection purposes but does not determine types for FSA's tobacco marketing quota program, provide that certain tobacco which in its cured state has a nicotine content of not more than eight-tenths of one percent (8/10 of 1%), oven dry weight, be classified as type 31-V, if burley, or type 73, if flue-cured. AMS thus classified, for inspection purposes, the biologically engineered tobacco, which fell at or below that nicotine level, as being either type 31-V (burley) or, if cured in the same manner as flue-cured tobacco, as type 73 (flue-cured).

FSA invited the views of interested persons before making any determination on considering biologically-engineered, low-nicotine tobacco as quota or non-quota tobacco. The majority of comments received, which were considered in formulating FSA's decision, support biologically-engineered, low-nicotine tobaccos being considered non-quota. Therefore, because current FSA marketing quota regulations include type 31 (burley) and types 11-14 (flue-cured) as tobacco subject to quotas, but do not include the biologically-engineered low-nicotine tobaccos type 31-V or type 73, FSA has determined that there will be no change to the marketing quota regulations. All comments are a matter of public record and may be viewed at the address shown above.

Signed in Washington, DC, on November 27, 2002.
Diane Sharp,
Acting Administrator, Farm Service Agency.

[FR Doc. 02-31118 Filed 12-9-02; 8:45 am]

BILLING CODE 3410-05-P